DEPARTMENT OF AGRICULTURE

Forest Service

Tongass Advisory Committee

AGENCY: Forest Service, USDA.

ACTION: Notice of meeting.

SUMMARY: The Tongass Advisory Committee (Committee) will meet in Juneau, Alaska. The Committee is established consistent with the Federal Advisory Committee Act of 1972 (5 U.S.C. App. 2). Additional information concerning the Committee, including the meeting summary/minutes, can be found by visiting the Committee's Web site at: http://www.fs.usda.gov/goto/R10/Tongass/TAC. The meeting is open to the public.

DATES: The meeting will be held on:

• January 20, 2015 from 1:00 p.m. to 5:00 p.m. (AKDT).

• January 21, 2015 from 8:30 a.m. to 5:00 p.m. (AKDT).

• January 22, 2015 from 8:30 a.m. to 5:00 p.m. (AKDT).

• January 23, 2015 from 8:30 a.m. to 4:00 p.m. (AKDT).

All meetings are subject to change and cancellation. For updated status of the meetings prior to attendance, please visit the Web site listed in the SUMMARY section, or contact the person listed under FOR FURTHER INFORMATION CONTACT.

ADDRESSES: The meetings will be held at the Aspen Suites Hotel, 8400 Airport Blvd., Juneau, Alaska 99801. Written comments may be submitted as described under SUPPLEMENTARY INFORMATION. All comments, including names and addresses when provided, are placed in the record and available for public inspection and copying. The public may inspect comments received at the Tongass National Forest Office. Please call ahead to facilitate entry into the building.

FOR FURTHER INFORMATION CONTACT: Nicole McMurren, Committee Coordinator, by phone at 907-772-5875, or by email at nmcmurren@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

(1) Review themes and suggestions in written and verbal public comments that have been submitted to the Committee to date;

(2) Review protocols and procedures for formalizing and forwarding Committee recommendations;

(3) Clarify perspectives and interests with regards to where and how young growth should be harvested;

(4) Refine list of possible implementation strategy topics/work group assignment(s) in anticipation of future deliberations on those topics; and

(5) Revisit goals, dates, locations and logistics for upcoming meetings.

Recommendations and advice may directly inform the development of a proposed action for modification of the 2008 Tongass Land Management Plan. In addition, there will be time allotted on the agenda for oral public comment. Those interested in providing comment orally can register at the meeting. Anyone who would like to bring related matters to the attention of the Committee may file written statements with the Committee's staff before or after the meeting. Written comments should be sent to Jason Anderson, Designated Federal Officer, Tongass National Forest, P.O. Box 309, Petersburg, Alaska 99833; by email to jasonanderson@fs.fed.us, or via facsimile to 907-772-5895. Summary/minutes of the meeting will be posted on the Web site listed above within 45 days after the meeting.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: December 23, 2014.
Jason Anderson,
Deputy Forest Supervisor, Tongass National Forest.

[FR Doc. 2014-30792 Filed 1-2-15; 8:45 am]

BILLING CODE 3411-15-P